FEDERAL RESERVE SYSTEM

Change in Bank Control Notices, Acquisitions of Shares of Bank or Bank Holding Companies; Correction

This notice corrects a notice (FR Doc. 04-27578) published on page 75314 of the issue for Thursday, December 16, 2004.

Under the Federal Reserve Bank of St. Louis heading, the entry for Martin B. Rowe, Harrisburg, Illinois, is revised to read as follows:

A. Federal Reserve Bank of St. Louis (Randall C. Sumner, Vice President) 411 Locust Street, St. Louis, Missouri 63166-2034:

1. Martin B. Rowe, Harrisburg, Illinois, individually and as a member of the Rowe Family Control Group, which consists of Martin B. Rowe, the Burt H. Rowe, Jr. Marital Trust and the Anne Rowe Family Trust, all of Harrisburg, Illinois; Marianna R. Deal, Rachelle L. Rowe, and Caroline C. Rowe, all of St. Louis, Missouri; and Anne Rowe, St. Louis, Missouri; to acquire control of First Eldorado Bancshares, Inc., Eldorado, Illinois, and thereby indirectly acquire control of Dana Bancorp, Inc., Dana, Indiana, The First National Bank of Dana, Dana Indiana, and First State Bank of Eldorado, Eldorado, Illinois.

Comments on this application must be received by January 3, 2005.

Board of Governors of the Federal Reserve System, December 17, 2004.
Robert deV. Frierson,
Deputy Secretary of the Board.

[FR Doc. 04-28063 Filed 12-22-04; 8:45 am]

BILLING CODE 6210-01-S